DEPARTMENT OF ENERGY

Federal Energy Regulatory Commission

[Docket No. RP00-369-001]

Trunkline Gas Company; Notice of Compliance Filing

August 10, 2000.

Take notice on August 7, 2000, Trunkline Gas Company (Trunkline) tendered for filing as part of its FERC Gas Tariff, First Revised Volume No. 1, the following tariff sheets to be effective March 27, 2000:

Sub Fourth Revised Sheet No. 190

Sub Sixth Revised Sheet No. 191

Sub Fourth Revised Sheet No. 192

Sub Third Revised Sheet No. 197

Trunkline asserts that the purpose of this filing is to comply with the Commission's Letter Order issued on July 28, 2000 in Docket No. RP00-369-000, 92 FERC ¶ 61,101 (2000). As directed by the Commission, Trunkline has modified Section 9 of the General Terms and Conditions to provide that the waiver of the price cap for short-term capacity release transactions is effective until September 30, 2002, regardless of when the capacity release expires.

Trunkline states that a copy of this filing is available for public inspection during business hours at Trunkline's office at 5444 Westheimer Road, Houston, Texas 77056-5306. In addition, copies of this filing are being served on all affected customers, applicable state regulatory agencies and parties to this proceeding.

Any person desiring to protect this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-222 for assistance).

David P. Boergers,
Secretary.

[FR Doc. 00-20751 Filed 8-15-00; 8:45 am]

BILLING CODE 6717-01-M